DEPARTMENT OF HEALTH AND HUMAN SERVICES

Centers for Disease Control and Prevention

[60Day-05BM)

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5973 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

2005 Hispanic/Latino Adult Tobacco Survey (ATS)—New—National Center for Chronic Disease Prevention and Health Promotion (NCCDPHP), Centers for Disease Control and Prevention (CDC).

Background and Brief Description

The purpose of this project is to conduct a culturally appropriate Adult Tobacco Survey questionnaire with Hispanic/Latino persons. The survey results will expand data and existing knowledge of tobacco use among Hispanics/Latinos in order to benefit tobacco use surveillance and prevention programming at the local, state, and regional levels. The questions will help to narrow existing gaps in knowledge concerning tobacco use in the Hispanic/Latino population and inform development of Hispanic/Latino-specific interventions.

The Hispanic/Latino population is fast growing in the United States. It is expected that the number of Hispanic/Latino persons residing in the U.S. will increase from 35.3 million in the year 2000 to 98.2 million in the year 2050, almost 3 times the current population. The large expected growth in the Hispanic/Latino population, especially in states that are not traditionally Hispanic/Latino, will have important implications for tobacco control activities in the years to come.

CDC is proposing a project that includes administering the Adult Tobacco Survey in three locations that have high concentrations of Hispanic/Latino persons, each location with a distinct Hispanic/Latino subpopulation. The locations are New York City (New York), Miami (Florida), and El Paso (Texas). Within each location, the survey will be conducted with approximately 1,500 participants, for a total of 4,500 participants. The survey will be conducted in both English and Spanish. There is no cost to respondents except for their time.

Annualized Burden Table:

Respondents | Number of respondents | Number of responses per respondent | Average burden per response (in hours) | Total burden (in hours)
New York, NY | 1,500 | 1 | 45/60 | 1,125
Miami, Fl | 1,500 | 1 | 45/60 | 1,125
El Paso, TX | 1,500 | 1 | 45/60 | 1,125
Total |  |  |  | 3,375

Dated: March 7, 2005.
Betsey Dunaway,
Acting Reports Clearance Officer, Centers for Disease Control and Prevention.

[FR Doc. 05-4936 Filed 3-14-05; 8:45 am]

BILLING CODE 4163-18-P